DEPARTMENT OF THE INTERIOR

Bureau of Land Management

[MT-924-1430-ET; MTM 89170]

Withdrawal of Public Land to Aid in Reclamation of the Zortman-Landusky Mining Area; Montana

AGENCY: Bureau of Land Management, Interior.

ACTION: Correction.

SUMMARY: This notice corrects Public Land Order No. 7464, 65 FR 59463, published October 5, 2000.

The legal description in the second column, in the fifth line under Sec. 17, which reads “W½SW½SE¼” is corrected to read “W½SW¼SE¼.”

Dated: October 6, 2000.
Phyllis A. Brosz,
Acting Chief, Branch of Land Resources, Division of Resources.

[FR Doc. 00-27213 Filed 10-23-00; 8:45 am]

BILLING CODE 4310-$$-P